DEPARTMENT OF THE INTERIOR

National Park Service

Notice of Availability of the Finding of No Significant Impact for Proposed Field Evaluation of Innovative Capping Technologies for Contaminated Sediment Remediation, Anacostia River, Washington, DC

ACTION: Notice of availability of Decision Notice (DN) and Finding of No Significant Impact (FONSI).

SUMMARY: Pursuant to the National Environmental Policy Act (NEPA), Council on Environmental Quality regulations, National Park Service (NPS) guidance and requirements, the NPS prepared an environmental assessment (EA) evaluating environmental impacts potentially resulting from implementation of a demonstration project of innovative capping techniques for contaminated sediment remediation. This EA presented a pilot project recommended by the Anacostia Watershed Toxics Alliance and coordinated with the Environmental Protection Agency for evaluating innovative capping techniques, which involve placement of a covering or cap of material over river bottom areas that contain known contaminated sediments to physically and chemically isolate them from the aquatic environment. The EA was made available for a 30-day public review period that ended on October 24, 2003. It was also discussed in meetings open to the public. The NPS conducted the EA as part of its decision making process for its issuance of a special use permit to authorize this proposed action to occur on the bed of the Anacostia River, which it administers. After the comment period, NPS selected Alternative 2: Implement the Demonstration Project, and on November 25, 2003 it issued a FONSI.

In Alternative 2, researchers would use caps made from alternative materials that can degrade or control sediment-bound contaminants more efficiently than sand alone. This approach of “active capping,” could significantly improve the effectiveness of capping as a remedial approach and has great potential to reduce costs and durations of cleanups across the country. A grid of capping cells will be established of approximately 200 by 300 feet at a site in the Anacostia River near the General Services Administration Southeast Federal Center, Washington, DC. The installation of the demonstration project would occur over a two-month period and the capping material would be studied over a two-year period. The cap material would be placed in a manner that would provide the necessary layer thickness while minimizing re-suspension of the contaminated sediment and dispersal of the capping materials.

The Anacostia River offers an opportunity for the proposed demonstration under realistic, well-documented, in-situ conditions at contaminated sediment sites. The demonstration will advance the ongoing federal restoration of the Anacostia River and it will also provide better technical understanding of controlling factors, guidance for proper remedy selection and approaches, and broader scientific, regulatory and public acceptance of innovative approaches. The results of the proposed study would be available to the public.

SUPPLEMENTARY INFORMATION: Requests for copies of the NPS' DN/FONSI/EA, or for any additional information, should be directed to Mr. Michael Wilderman, National Capital Parks-East, 1900 Anacostia Drive, SE., Washington, DC 20020, Telephone: (202) 690-5165.

Dated: January 28, 2004.
Terry R. Carlstrom,
Regional Director, National Park Service, National Capital Region.

[FR Doc. 04-4133 Filed 2-24-04; 8:45 am]

BILLING CODE 4310-71-P